SMALL BUSINESS ADMINSTRATION

Small Business & Agriculture Regulatory Enforcement Ombudsman; Office of the National Ombudsman; Regulatory Enforcement Fairness Program; Public Federal Regulatory Enforcement Fairness Hearing; Region V Regulatory Fairness Board

The Small Business Administration Region V Regulatory Fairness Board and the SBA Office of the National Ombudsman will hold a Public Hearing on Tuesday, June 22, 2004, at 8:30 a.m. at the Business Technology Center, 1275 Kinnear Road, Columbus, OH 43212-1155, to receive comments and testimony from small business owners, small government entities, and small non-profit organizations concerning regulatory enforcement and compliance actions taken by federal agencies.

Anyone wishing to attend or to make a presentation must contact Shannon Feucht in writing or by fax, in order to be put on the agenda. Shannon Feucht, Paralegal Specialist, SBA Columbus District Office, 280 N. High Street, Suite 1400, Columbus, Ohio 43215, phone (614) 469-6860 ext. 244, fax (614) 469-2391, e-mail: Shannon.feucht@sba.gov.

For more information, see our Web site at www.sba.gov/ombudsman.

Dated: May 27, 2004.
Peter Sorum,
Senior Advisor, Office of the National Ombudsman.

[FR Doc. 04-12652 Filed 6-3-04; 8:45 am]

BILLING CODE 8025-01-P